DEPARTMENT OF ENERGY

Federal Energy Regulatory Commission

[Project No. 2157-188]

Public Utility District No. 1 of Snohomish County; Notice of Application Accepted for Filing, Soliciting Motions To Intervene and Protests, Ready for Environmental Analysis, and Soliciting Comments, Recommendations, Preliminary Terms and Conditions, and Preliminary Fishway Prescriptions

August 18, 2009.

Take notice that the following hydroelectric application has been filed with the Commission and is available for public inspection.

a. Type of Application: New Major License.

b. Project No.: P-2157-188.

c. Date Filed: June 1, 2009.

d. Applicant: Public Utility District No. 1 of Snohomish County.

e. Name of Project: Henry M Jackson Hydroelectric Project.

f. Location: The existing project is located on the Sultan River in Snohomish County, Washington, about 20 miles east of Everett, Washington. The project penstock underlies 10.9 acres of Mount Baker-Snoqualmie National Forest.

g. Filed Pursuant to: Federal Power Act 16 U.S.C. 791 (a)-825(r).

h. Applicant Contact: Public Utility District No. 1 of Snohomish County (District), Steven J. Klein, General Manager, 2320 California Street, P.O. Box 1107, Everett, WA 98206-1107.

i. FERC Contact: David Turner (202) 502-6091 or via e-mail at david.turner@ferc.gov.

j. The deadline for filing motions to intervene and protests, comments, recommendations, preliminary terms and conditions, and preliminary fishway prescriptions is October 19, 2009; reply comments are due December 1, 2009.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “e-Filing” link.

k. This application has been accepted for filing and is ready for environmental analysis.

l. The existing project consists of the following: (1) Spada Lake, with a surface area of 1,802 acres at a normal water surface elevation of 1,445 feet msl; (2) Culmback dam, a 640-foot-long, 262-foot-high earth and rockfill dam with a crest elevation of 1,470 feet msl located at River Mile (RM) 16.5 on the Sultan River; (3) a concrete morning glory spillway with a crest elevation of 1,450 feet msl located approximately 250 feet from the right bank; (4) a system of conduits and valves under the dam which provide the minimum flow downstream of Culmback dam; (5) a 110-foot-tall concrete intake structure located approximately 250 feet upstream of the dam with three 20-foot movable panels to allow withdrawal from different depths; (6) a penstock consisting of a 3.8-mile-long, 14-foot-diameter unlined tunnel leading to a 3.7-mile-long, 10-foot-diameter underground pipeline; (7) a two-story reinforced-concrete powerhouse located at RM 4.3; (8) four generating units with a total installed capacity of 111.8 MW; Units 1 and 2 are 47.5 MW Pelton turbines which discharge water directly into a 40-foot-long discharge canal to the Sultan River; Units 3 and 4 are 8.4 MW Francis turbines which discharge water through the Lake Chaplain water supply pipeline; (9) the approximately 3.5-mile-long, 72-inch-diameter Lake Chaplain water supply pipeline, which routes water from the Francis turbines to the Portal 2 structure at Lake Chaplain; (10) the Portal 2 structure, which diverts flows from the Lake Chaplain pipeline to Lake Chaplain (a 450-acre reservoir which serves as the City of Everett's water supply) or to the diversion dam tunnel and pipeline; (11) a 1.5-mile-long, concrete-lined tunnel and a 2,000-foot-long, 72-inch-diameter concrete pipeline connecting Lake Chaplain and the Sultan River immediately upstream of the diversion dam; (12) a 120-foot-long, 20-foot-high, concrete gravity diversion dam which was originally constructed to divert water from the Sultan River to Lake Chaplain; and (13) other appurtenant equipment. Project operations are guided by reservoir rule curves which are designed to minimize spill at Spada Lake while providing minimum flow releases to the Sultan River downstream of the diversion dam. The District proposes the following changes to the project: (1) Modifications to the project boundary that include additions to and exclusions to the existing project boundary; (2) a new Operations Plan based on revised Spada Lake rule curves; (3) several aquatic habitat enhancement measures; (4) measures to protect and enhance wildlife habitat; (5) measures to enhance recreational opportunities; and (6) measures to protect historic properties.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following Hydro Licensing Schedule. Revisions to the schedule may be made as appropriate.

Milestone | Target date
Filing of Interventions, Recommendations, Preliminary Terms and Conditions, and Fishway Prescriptions | October 19, 2009.
Reply Comments due | December 1, 2009.
Issue Draft EA | April 13, 2010.
Comments on Draft EA Due | May 13, 2010.
Filing of Modified Mandatory Terms and Conditions | July 12, 2010.
Issue Final EA | October 11, 2010.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Kimberly D. Bose,
Secretary.

[FR Doc. E9-20367 Filed 8-24-09; 8:45 am]

BILLING CODE 6717-01-P